DEPARTMENT OF EDUCATION

Notice of Automatic Extension of Performance Period for All Open Grants Issued Under the Higher Education Emergency Relief Fund (HEERF)

AGENCY: Office of Postsecondary Education, Department of Education.

ACTION: Notice.

SUMMARY: The U.S. Department of Education (Department) is issuing this notice regarding the automatic extension of HEERF grantees' performance period. The performance period for all open HEERF grants with a balance greater than $1,000 is extended through June 30, 2023.

FOR FURTHER INFORMATION CONTACT: Karen Epps, U.S. Department of Education, 400 Maryland Avenue SW, Room 250-64, Washington, DC 20202. Telephone: (202) 377-3711. Email: HEERF@ed.gov.

If you use a telecommunications device for the deaf (TDD) or a text telephone (TTY), call the Federal Relay Service, toll free, at 1-800-877-8339.

SUPPLEMENTARY INFORMATION: On March 11, 2021, President Biden signed the American Rescue Plan Act of 2021 (ARP) (Pub. L. 117-2). The ARP appropriated approximately $39.6 billion for HEERF, which represents the third stream of funding appropriated for HEERF to support institutions of higher education (IHEs) for the purpose of preventing, preparing for, and responding to the coronavirus. The ARP is one of the largest single investments ever made in our Nation's most historically under-resourced institutions. It has supported American recovery from the economic and health crises created by the 2019 novel coronavirus (COVID-19) pandemic. Prior funding streams include the Coronavirus Aid, Relief, and Economic Security (CARES) Act (Pub. L. 116-136) and Coronavirus Response and Relief Supplemental Appropriations Act, 2021 (CRRSAA) (Pub. L. 116-260). The CARES Act, enacted on March 27, 2020, provided the Department with a $14.0 billion HEERF appropriation. CRRSAA, signed into law on December 27, 2020, made available an additional $22.7 billion for IHEs under the HEERF program.

In enacting CARES, CRRSAA, and ARP, Congress did not specify a performance period for HEERF grantees. In its initial determination regarding the performance period for grants made under CARES, CRRSAA, and ARP, the Department made the decision that institutions must expend their HEERF grant funds within one year from the date when the Department processed the most recent obligation of funds for each specific grant. For example, when distributing ARP HEERF grant funds, the Department stated that IHEs that received a supplemental award under ARP had one year to spend remaining CARES, CRRSAA, and new ARP grant funds for each specific grant supplement received, which began on the date their ARP supplemental award was made. An institution's performance period for each of its HEERF grants is currently indicated in Box 6 of the institution's most recent Grant Award Notification (GAN) under “federal funding period.”

Under the Department's grantmaking procedures in 2 CFR 200.308(e)(2) and 34 CFR 75.261, grantees may also request one-time extensions of the budget period for up to 12 months to continue the work of their HEERF grant. Given that HEERF grantees have been awarded multiple supplemental grants obligated on a rolling basis, and some grants are on a no-cost extension, the performance period varies among HEERF grantees and their individual HEERF grants.

The Department is committed to providing consistency, where possible, and extending all available flexibilities that may be authorized by law to grantees under the HEERF programs as institutions continue to grapple with the financial consequences of COVID-19. The COVID-19 pandemic continues to challenge the public health and safety of the Nation, and it is essential to continue to combat and respond to COVID-19 with the full capacity and capability of the Federal Government.

Under 34 CFR 75.250(a), the Secretary may approve a project period of up to 60 months to perform the substantive work of a grant. While grantees have diligently spent most of their HEERF grant funds, the Department recognizes the need to use remaining funds to meet the needs of students. Accordingly, the Department is extending the performance period on all HEERF grants through June 30, 2023. This extension does not apply to grants that are closed or in the closeout process, nor does it apply to grants that have an award balance of $1,000 or less. The Department believes that extending the performance period on all HEERF grants through June 30, 2023, is consistent with the intent of Congress and authorized by the law. This extension, with a consistent performance period across grants, will also allow IHEs to manage grant spending more efficiently and spend remaining funds to meet institutional needs during the ongoing pandemic.

This blanket extension is not considered a no-cost extension under 2 CFR 200.308(e)(2) and 34 CFR 75.261.

While institutions will not receive a new GAN updating the performance periods of their HEERF grants, this notice supersedes, in part, all previous guidance, agreements, and grant award documents to provide IHEs with an extended performance period through June 30, 2023. Grantees are not required to take any action to take advantage of this automatic extension but are encouraged to maintain a copy of this notice within their HEERF grant files as required documentation for auditing purposes.

Institutions may always spend HEERF funds prior to the conclusion of the performance period. For those institutions that do not need additional time to spend their HEERF award, the Department encourages spending funds as soon as possible.

For more information on HEERF, please visit the Department's Higher Education Emergency Relief Fund page at: www2.ed.gov/programs/heerf/index.html.

Program Authority: Section 18004 of CARES, Section 314 of CRRSAA, and Section 2003 of ARP.

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Deputy Assistant Secretary for Higher Education Programs, Delegated the Authority to Perform the Functions and Duties of the Assistant Secretary for the Office of Postsecondary Education.

[FR Doc. 2022-07053 Filed 4-1-22; 8:45 am]

BILLING CODE 4000-01-P